DEPARTMENT OF DEFENSE

Office of the Secretary

[Docket ID DOD-2012-OS-0081]

Privacy Act of 1974; System of Records

AGENCY: Defense Intelligence Agency, DoD.

ACTION: Notice to alter a system of records.

SUMMARY: The Defense Intelligence Agency proposes to alter a system in its existing inventory of records systems subject to the Privacy Act of 1974 (5 U.S.C. 552a), as amended.

DATES: This proposed action will be effective on August 2, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 McDill Blvd., Washington, DC 20340-0001, or by phone at (202) 231-1193.

SUPPLEMENTARY INFORMATION: The Defense Intelligence Agency notices for systems of records subject to the Privacy Act of 1974, 5 U.S.C. 552a, as amended, have been published in the Federal Register and are available from the address in FOR FURTHER INFORMATION CONTACT. The proposed system report, as required by 5 U.S.C. 552a(r) of the Privacy Act of 1974, as amended, was submitted on June 1, 2012, to the House Committee on Oversight and Government Reform, the Senate Committee on Governmental Affairs, and the Office of Management and Budget (OMB) pursuant to paragraph 4c of Appendix I to OMB Circular No. A-130, “Federal Agency Responsibilities for Maintaining Records About Individuals, “dated February 8, 1996 (February 20, 1996, 61 FR 6427).

Dated: June 28, 2012.
Aaron Siegel,
Alternate OSD Federal Register Liaison Officer, Department of Defense.

LDIA 0140

System name:

Passports and Visas (October 13, 2009, 74 FR 52462).

Changes:

* * * * *

System Location:

Delete entry and replace with “Defense Intelligence Agency, 200 MacDill Blvd., Washington, DC 20340-0001.”

Categories of individuals covered by the system:

Delete entry and replace with “Civilian employees, active duty military assignees and contractors assigned to DIA who require a passport or Visa for official travel.”

Categories of records in the system:

Delete entry and replace with “Name, address, phone number, place of birth, date of birth, Social Security Number (SSN), full address, hair color, eye color, height, weight, parents names, parents dates of birth, parents places of birth, employer and emergency contact as required by the U.S. Department of State for obtaining passports, passports themselves and visa applications.”

* * * * *

System manager(s) and address:

Delete entry and replace with “Operations Management Branch, Attn: DAL-2B, Defense Intelligence Agency, 200 MacDill Blvd., Washington, DC 20340-0001.”

Notification procedure:

Delete entry and replace with “Individuals seeking to determine whether information about themselves is contained in this system of records should address written inquiries to the Freedom of Information Act Office (DAN-1A/FOIA), Defense Intelligence Agency, 200 MacDill Blvd., Washington, DC 20340-0001. Individuals should provide their full name, current address, and telephone number.”

Record access procedures:

Delete entry and replace with “Individuals seeking access to information about themselves contained in this system of records should address written inquiries to the Freedom of Information Act Office (DAN-1A/FOIA), Defense Intelligence Agency, 200 MacDill Blvd., Washington, DC 20340-0001.

Individuals should provide their full name, current address, and telephone number.”

* * * * *

[FR Doc. 2012-16264 Filed 7-2-12; 8:45 am]

BILLING CODE 5001-06-P